DEPARTMENT OF DEFENSE

Department of the Navy

Notice of Intent To Grant Exclusive Patent License: Kismet Management Fund LLC

AGENCY: Department of the Navy, DoD.

ACTION: Notice.

SUMMARY: The Department of the Navy hereby gives notice of its intent to grant to Kismet Management Fund LLC, a revocable, nonassignable, exclusive license to practice throughout the United States, the Government-owned inventions described in U.S. Patent No. 7,051,098: System for Monitoring and Reporting Performance of Hosts and Applications and Selectively Configuring Applications in a Resource Management System//U.S. Patent No. 7,096,248: Program Control for Resource Management Architecture and Corresponding Programs//U.S. Patent No. 7,171,654: System Specification Language for Resource Management Architecture and Corresponding Programs//U.S. Patent No. 7,181,743: Resource Allocation Decision Function for Resource Management Architecture and Corresponding Programs//U.S. Patent No. 7,552,438: Resource Management Device.

DATES: Anyone wishing to object to the grant of this license must file written objections along with supporting evidence, if any, not later than December 28, 2012.

ADDRESSES: Written objections are to be filed with the Naval Surface Warfare Center Dahlgren Division, Code CD1TP2, 17632 Dahlgren Road, Suite 201, Dahlgren, VA 22448-5154.

FOR FURTHER INFORMATION CONTACT: Lorraine Flanders, Office of Research and Technology Applications Manager, Code CD1TP2, Naval Surface Warfare Center Dahlgren Division, 17632 Dahlgren Road, Suite 201, Dahlgren, VA 22448-5154; telephone 540-653-2680, or email lorraine.flanders@navy.mil.

Authority: 35 U.S.C. 207, 37 CFR part 404.

Dated: December 5, 2012.
C.K. Chiappetta,
Lieutenant Commander, Office of the Judge Advocate General, U.S. Navy, Federal Register Liaison Officer.

[FR Doc. 2012-30144 Filed 12-12-12; 8:45 am]

BILLING CODE 3810-FF-P